COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete product(s) and service(s) from the Procurement List that were furnished by nonprofit agencies employing persons who are blind or have other severe disabilities.

DATES: Comments must be received on or before: April 21, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): 7910-00-685-3910—Pad, Machine, Polishing, Floor, 18″ x ¼″

Authorized Source of Supply: Beacon Lighthouse, Inc., Wichita Falls, TX

Contracting Activity: GSA/FSS GREATER SOUTHWEST ACQUISITI, FORT WORTH, TX

Service(s)

Service Type: Embroidery Service

Mandatory for: Embroidery of Urban Name Tapes: U.S. Marine Corps, Arlington, VA

Authorized Source of Supply: LIONS INDUSTRIES FOR THE BLIND, INC, Kinston, NC

Contracting Activity: DEPT OF THE ARMY, W40M RHCO-ATLANTIC USAHCA

Service Type: Management of State Dept High Threat Division Kit

Mandatory for: Department of State, High Threat Division, 2216 Gallows Road, Dunn Loring, VA

Authorized Source of Supply: Virginia Industries for the Blind, Charlottesville, VA

Contracting Activity: STATE, DEPARTMENT OF, ACQUISITIONS—AQM MOMENTUM

Michael R. Jurkowski,
Director, Business Operations.

[FR Doc. 2024-06085 Filed 3-21-24; 8:45 am]

BILLING CODE 6353-01-P